FEDERAL COMMUNICATIONS COMMISSION

Public Information Collection Approved by Office of Management and Budget

January 18, 2000.

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0878.

Expiration Date: 08/31/02.

Title: Wireless E911 Rule Waivers for Handset Based Approaches to Phase II ALI Requirements.

Form No.: N/A.

Estimated Annual Burden: 2,000 burden hours annually, 40 hours per response; 50 responses.

Description: The information filed as part of a one-time petition for waiver of § 20.18(e) will be used to ensure timely compliance with the Commission's critical E911 regulations, provide the Commission with current information on the station of Automatic Location Identification technology, and thus ensure the dependability and responsiveness of E911 services.

Federal Communications Commission

OMB Control No.: 3060-0900.

Expiration Date: 12/31/02.

Title: Compatibility of Wireless Services with Enhanced 911—Second Report and Order in CC Docket 94-102.

Form No.: N/A.

Estimated Annual Burden: 2,190 burden hours annually, approximately 8 hours per response; 270 responses.

Description: The information by manufacturers or carriers wishing to incorporate new or modified E911 call processing modes will be used to keep the Commission informed of technological developments and thus to ensure that the Commission's regulations are kept current and reflect the preferences of the industry in complying E911 regulations. The information to be submitted with applications equipment authorizations for analog cellular telephones are necessary to ensure industry compliance with 911 call completion regulations. The voluntary education program will enable consumers to use wireless analog sets to make E911 calls in an informative manner, ensuring a fast, reliable response.

Federal Communications Commission.
Magalie Roman Salas,
Secretary.

[FR Doc. 00-1799 Filed 1-25-00; 8:45 am]

BILLING CODE 6712-01-U